DEPARTMENT OF EDUCATION

Applications for New Awards; Alaska Native Education Program; Amendments

AGENCY: Office of Elementary and Secondary Education, Department of Education.

ACTION: Notice; amendments.

SUMMARY: On January 12, 2022, we published in the Federal Register a notice inviting applications (NIA) for new awards for fiscal year (FY) 2022 for the Alaska Native Education (ANE) program, Assistance Listing Number (ALN) 84.356A. Since that time, Congress passed, and the President signed, the Consolidated Appropriations Act, 2022 (the Act), which provides funding for the awards under this competition. We are amending the NIA to provide, consistent with the Act, that the administrative cost cap in section 6205(b) of the Elementary and Secondary Education Act of 1965 (ESEA) applies only to direct administrative costs for grants awarded using FY 2022 appropriations and to clarify that funds may be used for construction. This notice relates to the approved information collection under OMB control number 1894-0006.

DATES: Deadline for Transmittal of Applications: April 26, 2022.

FOR FURTHER INFORMATION CONTACT: Almita Reed, U.S. Department of Education, 400 Maryland Avenue SW, Room 3E222, Washington, DC 20202. Telephone: (202) 260-1979. Email: OESE.ASKANEP@ed.gov.

If you use a telecommunications device for the deaf (TDD) or a text telephone (TTY), call the Federal Relay Service, toll free, at 1-800-877-8339.

SUPPLEMENTARY INFORMATION: On January 12, 2022, we published in the Federal Register the NIA for FY 2022 for the ANE program (87 FR 1732). The ANE NIA established a deadline date of March 14, 2022, for transmittal of applications. On March 2, 2022, we published a notice in the Federal Register (87 FR 11698) extending the application deadline date to April 26, 2022 (Extension Notice).

On March 15, 2022, Congress passed and the President signed the Act, which provides funding for the awards under this competition. The Act provides that the five percent limitation in section 6205(b) of the ESEA on the use of funds for administrative purposes applies only to direct administrative costs and that funds may be used for construction. Accordingly, we are amending the NIA to notify prospective applicants that no more than five percent of funds awarded for a FY 2022 grant under this program may be used for direct administrative costs. We are also amending the NIA to clarify that funds may be used for construction. All other requirements and conditions stated in the NIA, as amended by the Extension Notice, remain the same.

Amendments:

In FR Doc. No. 2022-00411, appearing on page 1732 of the Federal Register of January 12, 2022, we make the following amendments:

1. On page 1733, in the left column, in the section titled “Absolute Priority”, remove the note after “2. Collects data to assist in the evaluation of the programs carried out under the ANE program.” and add in its place:

Note: The use of FY 2022 funds for the purpose of construction is a permissible activity as authorized by Congress.

2. On page 1735, in the left column, remove the text after the heading “4. Funding Restrictions:” and add in its place: No more than five percent of FY 2022 funds awarded for a grant under this program may be used for direct administrative costs (ESEA section 6205(b) and the Consolidated Appropriations Act, 2022 (the Act)). This five percent limit does not include indirect costs.

Note: In general, for purposes of this competition, the five percent limit on administrative costs under ESEA section 6205(b) includes direct and indirect administrative costs. In the Act, however, Congress explicitly specified that, for FY 2022 funds, the administrative cost cap refers only to direct administrative costs.

We reference regulations outlining additional funding restrictions in the Applicable Regulations section of this notice.

Program Authority: Title VI, part C of the ESEA (20 U.S.C. 7541-7546); Consolidated Appropriations Act, 2022.

Accessible Format: On request to the contact person listed under FOR FURTHER INFORMATION CONTACT, individuals with disabilities can obtain this notice, the NIA, the Extension Notice, and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Ruth E. Ryder,
Deputy Assistant Secretary for Policy and Programs, Office of Elementary and Secondary Education.

[FR Doc. 2022-05926 Filed 3-18-22; 8:45 am]

BILLING CODE 4000-01-P